DEPARTMENT OF ENERGY

Federal Energy Regulatory Commission

[Docket No. CP09-79-000]

Leaf River Energy Center LLC; Notice of Request Under Blanket Authorization

March 24, 2009.

Take notice that on March 10, 2009, Leaf River Energy Center LLC (Leaf River), 53 Riverside Avenue, Westport, Connecticut, 06880, filed in Docket number CP09-79-000, a prior notice request pursuant to sections 157.205 and 157.208 of the Commission's regulations under the Natural Gas Act (NGA), and Leaf River's blanket certificate issued in Docket number CP08-8-000. Leaf River asked for authorization to construct, own and operate a new natural gas pipeline lateral and associated facilities (Sonat Lateral) that will connect the Leaf River Energy Center, a certificated underground natural gas storage and pipeline header facilities, located in Smith, Jasper and Clarke Counties, Mississippi, with a Southern Natural Gas Company (Sonat) interstate natural gas transmission pipeline in place of the facilities that Leaf River originally proposed for that purpose. Leaf River submitted information supplementing prior notice of proposed construction activity under blanket certificate on March 23, 2009, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Laura L. Luce, Leaf River Energy Center LLC, 53 Riverside Avenue, Westport, CT 06880, at (203) 557-1000 or at lluce@ngsenergy.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E9-7081 Filed 3-30-09; 8:45 am]

BILLING CODE